DEPARTMENT OF ENERGY

Federal Energy Regulatory Commission

[Docket No. CP01-413-001—1]

Northern Natural Gas Company; Notice of Compliance Filing

October 17, 2001.

Take notice that on October 9, 2001, Northern Natural Gas Company (Northern) tendered for filing to become part of Northern's FERC Gas Tariffs, Fifth Revised Volume No. 1, the following tariff sheets proposed to be effective on September 27, 2001:

Fifth Revised Volume No. 1

Eighth Revised Sheet No. 6

Original Volume No. 2

23 Revised Sheet No. 1A.1

Fourth Revised Sheet No. 544

Northern states that the above sheets represent cancellation of Rate Schedule T-12 from Northern's Original Volume No. 2 FERC Gas Tariff, and its associated deletion from the Table of Contents in Northern's Volume Nos. 1 and 2 tariffs.

Northern states that copies of the filing were served upon the company's customers and interested state Commissions.

Any person desiring to be heard or to protest said application should file a motion to intervene or a protest with the Federal Energy Regulatory Commission, 888 First Street, N.E., Washington, D.C. 20426, in accordance with Sections 385.211 and 385.214 of the Commission's Rules and Regulations. All such motions or protests must be filed on or before October 29, 2001. Protests will be considered by the Commission in determining the appropriate action to be taken, but will not serve to make protestants parties to the proceeding. Any person wishing to become a party must file a motion to intervene. Copies of this filing are on file with the Commission and are available for public inspection. This filing may be viewed on the Commission's web site at http://www.ferc.gov using the “RIMS” link, select “Docket #” and follow the instructions ((202)208-2222 for assistance). Comments, protests and interventions may be filed electronically via the Internet in lieu of paper. See, 18 CFR 385.2001(a)(1)(iii) and the instructions on the Commission's web site under the “e-Filing” link.

Under the procedure herein provided for, unless otherwise advised, it will be unnecessary for Northern to appear or be represented at the hearing.

David P. Boergers,
Secretary.

[FR Doc. 01-26596 Filed 10-22-01; 8:45 am]

BILLING CODE 6717-01-P